NATIONAL AERONAUTICS AND SPACE ADMINISTRATION

[Notice (20-069)]

Heliophysics Advisory Committee; Meeting.

AGENCY: National Aeronautics and Space Administration.

ACTION: Notice of meeting.

SUMMARY: In accordance with the Federal Advisory Committee Act, as amended, the National Aeronautics and Space Administration (NASA) announces a meeting of the Heliophysics Advisory Committee (HPAC). This Committee functions in an advisory capacity to the Director, Heliophysics Division, in the NASA Science Mission Directorate. The meeting will be held for the purpose of soliciting, from the science community and other persons, scientific and technical information relevant to program planning.

DATES: Monday, September 21, 2020, 1:00 p.m.-5:00 p.m., Eastern Time.

ADDRESSES: Meeting will be virtual only, see dial-in and WebEx information below under Supplementary Information.

FOR FURTHER INFORMATION CONTACT: Dr. Janet Kozyra, Designated Federal Officer, Science Mission Directorate, NASA Headquarters, Washington, DC 20546, at janet.kozyra@nasa.gov, 202-358-1258.

SUPPLEMENTARY INFORMATION: This meeting will be open to the public. The meeting will take place telephonically and via WebEx only. Any interested person must use a touch-tone phone to participate in this meeting. Any interested person may call the USA toll free number 1-800-857-9728, or toll number 1-415-228-3890, passcode 5951905 followed by the # sign to participate in this meeting by telephone on both days. The WebEx link is https://nasaenterprise.webex.com/; the meeting number is 199 049 7836 and the password is SeptHPAC2020! (case sensitive).

The agenda for the meeting includes the following topic:

• Heliophysics Program Annual Performance Review According to the Government Performance and Results Act Modernization Act.

It is imperative that the meeting be held on these dates to accommodate the scheduling priorities of the key participants.

Patricia Rausch,
Advisory Committee Management Officer, National Aeronautics and Space Administration.

[FR Doc. 2020-19166 Filed 8-28-20; 8:45 am]

BILLING CODE 7510-13-P